DEPARTMENT OF THE INTERIOR

National Park Service

[NPS-WASO-NRNHL-21612; PPWOCRADI0, PCU00RP14.R50000]

National Register of Historic Places; Notification of Pending Nominations and Related Actions

AGENCY: National Park Service, Interior.

ACTION: Notice.

SUMMARY: The National Park Service is soliciting comments on the significance of properties nominated before July 23, 2016, for listing or related actions in the National Register of Historic Places.

DATES: Comments should be submitted by August 25, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before July 23, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ILLINOIS

Cook County

Congress Theater, 2117-2139 N. Milwaukee Ave., Chicago, 16000579

Lemont Downtown Historic District, Roughly bounded by Main, Stephen, Illinois, River and Front Sts., Lemont, 16000582

Overton, Anthony, Elementary School, 221 E. 49th St., Chicago, 16000578

Kendall County

Bristol Congregational Church, 107 W. Center St., Yorkville, 16000580

IOWA

Scott County

First Federal Savings and Loan Association Building, 131 W. Third Street, Davenport, 16000577

MICHIGAN

Ottawa County

Grand Haven Historic District, Washington Ave., adjacent Sts., Harbor Dr. through 600 blks., Grand Haven, 16000584

Grand Trunk Western Railroad Grand Haven Coal Tipple, 300 Block of N. Harbor Dr. in Chinook Pier Park, Grand Haven, 16000583

MISSOURI

St. Louis County

Curtiss—Wright Aeroplane Factory, 130 Banshee Rd., Hazelwood, 16000586

St. Louis Independent city

Locust Street Automotive District, Boundary Increase II, 2722-2900 Locust St., 2727-2801 Locust St., St. Louis (Independent City), 16000581

NEW MEXICO

Santa Fe County

Santa Fe National Cemetery, 501 N. Guadalupe St., Santa Fe, 16000588

NEW YORK

Delaware County

Second Walton Army (Thirty-third Separate Company), 139 Stockton Ave., Walton, 16000591

Erie County

Buffalo Public School #63 (PS 63), 91 Lisbon Ave., Buffalo, 16000587

Depew High School, 591 Terrace Blvd., Depew, 16000593

St. Teresa's Roman Catholic Church Complex, 1970 Seneca St., 17 Mineral Springs Rd., Buffalo, 16000589

Niagara County

Ascension Roman Catholic Church Complex, 168 and 172 Robinson St., 61, 69 and 91 Keil St., North Tonawanda, 16000592

Tompkins County

Dennis—Newton House, 421 N. Albany St., Ithaca, 16000590

NORTH CAROLINA

Alamance County

May Hosiery Mills Knitting Mill, 612 S. Main St., Burlington, 16000585

OHIO

Cuyahoga County

Cleveland Public Carnegie Library Hough Branch, 1765 Crawford Rd., Cleveland, 16000603

Commodore Hotel, The, (Apartment Buildings in Ohio Urban Centers, 1870-1970 MPS) 11990 Ford Dr., 11309-11325 Euclid Ave., Cleveland, 16000594

Franklin County

Engine House No. 6, 540 W. Broad St., Columbus, 16000595

Hamilton County

Neppert, Joseph and Cecilia, House, 1550 Neeb Rd., Cincinnati, 16000596

Rauh, Frederick and Harriet, House, 10068 Leacrest Rd., Woodlawn, 16000597

Portage County

Gross, L.N., Company Building, 315 Gougler Ave., Kent, 16000598

Stark County

City Savings Bank & Trust Company, 449 E. Main St., Alliance, 16000602

OREGON

Multnomah County

Vancouver Avenue First Baptist Church, 3138 N. Vancouver Ave., Portland, 16000604

In the interest of preservation, a three day comment period has been requested for the following resources:

CALIFORNIA

Fresno County

Muir, John, Memorial Shelter, CA 180, Grant Grove Village in Kings Canyon National Park, Grant Cove, 16000576

OHIO

Cuyahoga County

NASA Lewis Research Center—Development Engineering Building & Annex, 21000 Brookpark Rd., Fairview, 16000599

Grossman Paper Box Company, 1729 Superior Ave., Cleveland, 16000601

Wood County

Ford, Edward, Plate Glass Company Employee Relations Building, 140 Dixie Highway, Rossford, 16000600

Authority: 60.13 of 36 CFR part 60

Dated: July 27, 2016.
J. Paul Loether,
Chief, National Register of Historic Places/National Historic Landmarks Program.

[FR Doc. 2016-18929 Filed 8-9-16; 8:45 am]

BILLING CODE 4312-51-P